DEPARTMENT OF ENERGY

[OE Docket No. EA-108-A]

Application To Amend Export Authorization; Arizona Public Service Company

AGENCY: Office of Electricity, Department of Energy.

ACTION: Notice of application.

SUMMARY: Arizona Public Service Company (APS or Applicant) filed a letter informing the Department of Energy (DOE or Department) of a change in the entity identified as the specific recipient of emergency power exports in Export Authorization Order No. EA-108. As a result of the change in counterparty, EA-108 must be amended to reflect that change.

DATES: Comments, protests, or motions to intervene must be submitted on or before April 21, 2021.

ADDRESSES: Comments or motions to intervene should be addressed to Christopher Lawrence, Christopher.Lawrence@hq.doe.gov.

FOR FURTHER INFORMATION CONTACT: Christopher Lawrence (Program Office) at 202-586-5260 or by email to Christopher.Lawrence@hq.doe.gov, or Christopher Drake (Attorney-Adviser) at 202-586-2919 or by email to Christopher.Drake@hq.doe.gov.

SUPPLEMENTARY INFORMATION: The Department of Energy (DOE) also regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On December 5, 1995, DOE issued EA-108 to APS, authorizing emergency exports of electric energy to the Comisión Federal de Electricidad (CFE, the national utility in Mexico). Ordering Paragraph (A) of EA-108 states that APS may “export electric energy to [CFE] only in response to requests for emergency assistance by CFE,” and that “[t]he electricity exports authorized herein shall be delivered to CFE only over the facilities authorized by Presidential Permit PP-108 issued to APS by DOE” that same day.

On July 16, 2019, APS filed a letter with the Office of Electricity of DOE informing the Department of a change in the counterparty listed in EA-108. The letter indicates that CFE is no longer the entity responsible for requesting emergency assistance, as contemplated by the December 29, 2008 Enabling Contract governing transactions over the line. The responsible entity is now the Centro Nacional de Control de Energía (CENACE). APS represents that CENACE “now operates [Mexico's] wholesale electricity market, has operational control of [Mexico's] national electric system, and establishes energy imports and exports for reliability and emergency situations,” adding that CFE must “assign the Enabling Contract to CENACE.” APS requested “confirmation from DOE that [EA-108] will remain applicable to the Enabling Contract once it has been assigned to CENACE.”

In addition to the references to CFE in Ordering Paragraph (A) of EA-108, Ordering Paragraph (F) states that “[e]xports to CFE authorized herein shall be reduced or suspended, as appropriate, whenever a continuation of those exports would impair or tend to impair the reliability of the U.S. electric power supply systems.”

APS sought confirmation of EA-108's continued applicability following the Enabling Contract's assignment, not modification of EA-108 itself. However, because EA-108 specifies CFE as the counterparty to APS, with several specific references, it is necessary for DOE to amend the permit to reflect the assignment by substituting CENACE in references to CFE.

Procedural Matters: Any person may comment on this application by filing such comment at the address provided above. Any person seeking to become a party to this proceeding must file a motion to intervene at the address provided above in accordance with Rule 214 of FERC's Rules of Practice and Procedure (18 CFR 385.214). Each comment or motion to intervene should be filed with DOE on or before the date listed above.

Comments and other filings concerning this application should be clearly marked with OE Docket No. EA-108-A. Additional copies are to be provided directly to Mr. Phillip McLaughlin, GM, Resource Management, P.O. Box 53999, Mail Station 9842, Phoenix, Arizona 85072-3999, Phillip.McLaughlin@aps.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

This application may be reviewed or downloaded electronically at http://energy.gov/oe/services/electricity-policy-coordination-and-implementation/international-electricity-regulatio-2. Upon reaching the home page, select “Pending Applications.”

Signed in Washington, DC, on March 16, 2021.
Christopher Lawrence,
Management and Program Analyst, Transmission Permitting and Technical Assistance, Office of Electricity.

[FR Doc. 2021-05859 Filed 3-19-21; 8:45 am]

BILLING CODE 6450-01-P